CONSUMER PRODUCT SAFETY COMMISSION

[Docket No. CPSC 2010-0112]

Agency Information Collection Activities; Proposed Collection; Comment Request; Prize Competitions and Contests

AGENCY: Consumer Product Safety Commission.

ACTION: Notice.

SUMMARY: The Consumer Product Safety Commission (“CPSC” or “Commission”) is announcing an opportunity for public comment on the proposed collection of certain information by the agency. Under the Paperwork Reduction Act of 1995 (“the PRA”), Federal agencies are required to publish notice in the Federal Register concerning each proposed collection of information and to allow 60 days for public comment in response to the notice. This notice solicits comments on the proposed collection of information for CPSC-sponsored prize competitions or contests.

DATES: Submit written or electronic comments on the collection of information by January 28, 2011.

ADDRESSES: You may submit comments, identified by Docket No. [CPSC 2010-0112], by any of the following methods:

Electronic Submissions

Submit electronic comments in the following way:

Federal eRulemaking Portal: http://www.regulations.gov. Follow the instructions for submitting comments. To ensure timely processing of comments, the Commission is no longer accepting comments submitted by electronic mail (e-mail), except through http://www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Linda Glatz, Division of Policy and Planning, Office of Information Technology, Consumer Product Safety Commission, 4330 East West Highway, Bethesda, MD 20814, 301-504-7671, lglatz@cpsc.gov.

SUPPLEMENTARY INFORMATION: Under the PRA (44 U.S.C. 3501-3520), Federal agencies must obtain approval from the Office of Management and Budget (“OMB”) for each collection of information they conduct or sponsor. “Collection of information” is defined in 44 U.S.C. 3502(3) and 5 CFR 1320.3(c), and includes agency requests or requirements that members of the public submit reports, keep records, or provide information to a third party. Section 3506(c)(2)(A) of the PRA (44 U.S.C. 3506(c)(2)(A)) requires Federal agencies to provide a 60-day notice in the Federal Register concerning each proposed collection of information before submitting the collection to the OMB for approval. To comply with this requirement, the CPSC is publishing notice of the proposed collection of information set forth in this document.

With respect to the following collection of information, the CPSC invites comments on these topics: (1) Whether the proposed collection of information is necessary for the proper performance of the CPSC's functions, including whether the information will have practical utility; (2) the accuracy of the CPSC's estimate of the burden of the proposed collection of information, including the validity of the methodology and assumptions used; (3) ways to enhance the quality, utility, and clarity of the information to be collected; and (4) ways to minimize the burden of the collection of information on respondents, including through the use of automated collection techniques, when appropriate, and other forms of information technology.

Consistent with the OMB Memorandum on the Use of Challenges and Prizes to Promote Open Government (M-10-11, March 8, 2010), the CPSC intends to establish contests and give awards to members of the public to further the mission of the CPSC. The purposes of the proposed contests and awards range from increasing the knowledge and awareness of schoolchildren of certain safety hazards, such as carbon monoxide poisoning, to recognizing outstanding consumer product safety accomplishments of scientists, business leaders, entrepreneurs, and others who have demonstrated support of the CPSC's product safety mission. The CPSC awards and contests will highlight excellence in consumer product safety to motivate, inspire, and guide others, including companies across the supply chain; to increase the number and diversity of the individuals, organizations, and teams that are addressing consumer product safety issues; to educate children and consumers about safety hazards; and to attract more public interest and attention to the issues involving consumer product hazards and safety.

The CPSC is seeking OMB approval for a generic clearance for CPSC's contests and awards. The information to be collected from contestants and award nominees or nominators includes contact and background information necessary to conduct a contest or award program. Limited background or biographical information similar to data found on a resume, such as a nominee's education and work experience, may be requested for some contests or awards. Additionally, the substantive entries that are the subject of the contests or awards, such as essays, posters, drawings, and videos, descriptions of products, services, or invention descriptions, and statistics on product or service performance or impact, may be requested from contestants and award nominees.

We estimate the burden of this collection of information as follows. The CPSC estimates up to 500 contest or award participants each year. The estimated time to complete a contest or award submission is five hours. In addition, approximately 20 applicants may be asked to provide additional information, a task that may take up to two additional hours to complete. Therefore, the total estimated burden on respondents is 2,540 hours ((500 participants × 5 hours/participant) + (20 applicants × 2 hours/participant) = 2,500 hours + 40 hours = 2,540 hours). The estimated total annual cost of the burden to all respondents is $75,463. This estimate is based on the total estimated burden on respondents (2,540 hours) multiplied against an hourly civilian rate of $29.71 per hour as specified by the Bureau of Labor Statistics, March 2010, All Workers, resulting in a total of $75,463.40 which we have rounded down to $75,463.

We estimate the total annual costs to the Federal government as follows. Ten staff members would support the contest or award activities annually. The CPSC tentatively estimates that each staff member will spend approximately six hours per work week for six months on such contest or award activities. Of the ten staff members, the CPSC tentatively believes that seven will be General Schedule (GS) employees and three will be Senior Executive Service (SES) employees. Accordingly, for seven GS employees, the estimated total annual cost to the Federal government is determined as follows: Seven employees × (six hours/week/employee × 24 weeks) = 1,008 hours. Assuming the employees are at the GS-15, Step 5 level, the hourly rate for such an employee located in the Washington, DC area is $67.21/hour; thus $67.21/hour × 1,008 hours = $67,747.68. For the SES employees three employees × (six hours/week/employee × 24 weeks) = 432 hours. Assuming the employees are at the Level III level for SES employees, the hourly rate for such an employee is approximately $79.47/hour; thus $79.47/hour × 432 hours = $34,331.04. The estimated total annual cost to the Federal government is $67,747.68 + $34,331.04 = $102,078.72, which we have rounded up to $102,079.

Dated: November 22, 2010.
Alberta E. Mills,
Acting Secretary, Consumer Product Safety Commission.

[FR Doc. 2010-29833 Filed 11-26-10; 8:45 am]

BILLING CODE 6355-01-P